DEPARTMENT OF JUSTICE

Antitrust Division

Notice Pursuant to the National Cooperative Research and Production Act of 1993—Chemical, Biological and Radiological Technology Alliance (“CBRTA”)

Notice is hereby given that, on May 29, 2002, pursuant to section 6(a) of the National Cooperative Research and Production Act of 1993, 15 U.S.C. 4301 et seq. (“the Act”), 3M Company (“3M”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are 3M Company, St. Paul, MN; Becton Dickinson and Company, acting through its BD Biosciences Business Unit, Franklin Lakes, NJ; BV Solutions Group, Inc., Overland Park, KS; Calspan-UB Research Center, Buffalo, NY; Cargill Incorporated, Wayzata, MN; General Dynamics Government Systems Corporation, Thousand Oaks, CA; Honeywell International Inc., Minneapolis, MN; Johns Hopkins University Applied Physics Laboratory, Laurel, MD; Lucent Technologies Inc., McLeansville, NY; Mayo Clinic Rochester, Rochester, NY; Motorola, Schaumburg, IL; RAE, Inc., Arlington, VA; Syracuse Research Corporation, Syracuse, NY; and Veridian Corporation, Arlington, VA. The fourteen parties formed a consortium called the “Chemical, Biological, and Radiological Technology Alliance” (“CBRTA”). The purpose of the CBRTA is to develop technologies that will provide detection, identification, and warning systems for defense against chemical, biological, and radiological attacks. The CBRTA is performing the technology development under Government R&D Contract No. NMA401-02-9-2002, awarded by the U.S. Department of Defense's National Imagery and Mapping Agency (NIMA) to the CBRTA.

Constance K. Robinson,
Director of Operations, Antitrust Division.

[FR Doc. 02-16221 Filed 6-26-02; 8:45 am]

BILLING CODE 4410-11-M